DEPARTMENT OF ENERGY

Federal Energy Regulatory Commission

[Docket No. RP02-216-001]

Reliant Energy Gas Transmission; Notice of Correction to Filing

April 18, 2002.

Take notice that on April 5, 2002, Reliant Energy Gas Transmission (REGT) submitted a corrected Page 1 to its Annual Revenue Crediting filing made on March 28, 2002 in this docket. Subsequent to the filing REGT discovered an error in a calculation on Page 1 of Appendix A.

REGT states that copies of the filing has been mailed to each of REGT's customers and interested state commissions.

Any person desiring to protest said filing should file a protest with the Federal Energy Regulatory Commission, 888 First Street, NE., Washington, DC 20426, in accordance with Section 385.211 of the Commission's Rules and Regulations. All such protests must be filed on or before April 25, 2002. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Deputy Secretary.

[FR Doc. 02-10018 Filed 4-23-02; 8:45 am]

BILLING CODE 6717-01-P